DEPARTMENT OF AGRICULTURE

Food and Nutrition Service

Announcement of Second and Subsequent Meetings of the 2020 Dietary Guidelines Advisory Committee and Request for Oral Comments

AGENCY: U.S. Department of Agriculture (USDA), Food, Nutrition, and Consumer Services; Department of Health and Human Services.

ACTION: Notice of open public meetings.

SUMMARY: The Departments of Agriculture and Health and Human Services announce the second and subsequent meetings of the 2020 Dietary Guidelines Advisory Committee (the Committee). These meetings will be open to the public. The period for written public comments to the Committee, which opened on March 12, 2019, will remain open throughout the Committee's deliberations. The public is invited to provide oral comments at two of the Committee's meetings.

DATES: This notice is being provided to the public on June 18, 2019. The meetings are scheduled as follows:

• Second meeting in Washington, DC: July 10, 2019, 9:00 a.m. to 4:30 p.m. ET, and July 11, 2019, 8:30 a.m. to 12:30 p.m. ET.

• The public may present oral comments to the Committee at the second meeting on July 11, 2019; register to present oral comments by July 1, 2019.

• Third meeting in Washington, DC: October 24, 2019, 9:00 a.m. to 4:30 p.m. ET, and October 25, 2019, 9:00 a.m. to 4:30 p.m. ET.

• Fourth meeting in Houston, TX: January 23, 2020, 9:00 a.m. to 4:30 p.m. CT, and January 24, 2020, 9:00 a.m. to 4:30 p.m. CT.

• The public may present oral comments to the Committee at the fourth meeting on January 24, 2020; register to present oral comments by January 14, 2020.

• Fifth meeting in Washington, DC: March 12, 2020, 9:00 a.m. to 4:30 p.m. ET, and March 13, 2020, 9:00 a.m. to 4:30 p.m. ET.

ADDRESSES: (a) Committee meetings will be accessible to the public by webcast on the internet or by attendance in person. Attendees are asked to register prior to the meeting. Registrants will receive the webcast and in-person attendance information prior to the meeting. The second, third, and fifth meetings will take place at the U.S. Department of Agriculture, South Building, Jefferson Auditorium, 1400 Independence Ave. SW, Washington, DC 20250. The fourth meeting will take place at the U.S. Department of Agriculture, Agricultural Research Service, Children's Nutrition Research Center, 1100 Bates Street, Houston, TX 77030.

(b) The public may send written comments to the Committee, identified by Docket FNS-2019-0001, using either of the following methods:

• Federal eRulemaking Portal: http://www.regulations.gov. Follow the instructions for sending comments. Preferred method.

• Mail: Kristin Koegel, USDA Food and Nutrition Service, Center for Nutrition Policy and Promotion; 3101 Park Center Drive, Room 1034; Alexandria, VA 22302.

Instructions: All submissions received must include the agency name and Docket FNS-2019-0001. For detailed instructions on sending written comments, see the SUPPLEMENTARY INFORMATION section of this document.

Docket: For access to Docket FNS-2019-0001 to read background documents or comments received, go to www.regulations.gov.

FOR FURTHER INFORMATION CONTACT: Designated Federal Officer (DFO), 2020 Dietary Guidelines Advisory Committee, Eve Stoody, Ph.D.; Center for Nutrition Policy and Promotion, Food and Nutrition Service, USDA; 3101 Park Center Drive, Room 1034; Alexandria, VA 22302; Telephone (703) 305-7600; Fax (703) 305-3300. Additional information is available on the internet at www.DietaryGuidelines.gov.

SUPPLEMENTARY INFORMATION:

Authority and Purpose: The 2020 Dietary Guidelines Advisory Committee shall be formed and governed under the provisions of the Federal Advisory Committee Act (FACA), Public Law 92-463, as amended (5 U.S.C., App). Under Section 301 of Public Law 101-445 (7 U.S.C. 5341, the National Nutrition Monitoring and Related Research Act of 1990, Title III), the Secretaries of USDA and HHS are directed to jointly publish the Dietary Guidelines for Americans at least every five years. See 84 FR 8840, March 12, 2019, for notice of the first meeting of the 2020 Dietary Guidelines Advisory Committee, the complete Authority and Purpose, and the Committee's Task.

Purpose of the Meetings: The Committee will meet to discuss and deliberate its review of the evidence on the topics and scientific questions identified by the Departments (see https://www.dietaryguidelines.gov/work-under-way/review-science/topics-and-questions-under-review). In accordance with FACA, all deliberations of the full Committee will occur in a public forum.

Meeting Agendas: Specific agendas will be announced in advance of each public meeting at www.DietaryGuidelines.gov. The full Committee will review the work since the last public meeting and plan for future Committee work. At each meeting, the full Committee will deliberate on presentations made by the following subcommittees outlining the approaches and findings from their scientific reviews: Dietary Patterns, Pregnancy and Lactation, Birth to 24 Months, Beverages and Added Sugars, Dietary Fats and Seafood, Frequency of Eating, and Food Pattern Modeling and Data Analysis. The second and fourth meetings will also provide opportunities for oral comment from the public. At the final meeting, the Committee will review its draft report.

Meeting Registration: Committee meetings will be open to the public and will be accessible by webcast or by attendance in person. Attendees are asked to register prior to the meeting. Registration will open at least two weeks in advance of each meeting. Registration to attend the second meeting in person and/or to present oral comment is now open, and closes at 5:00 p.m. on July 1, 2019. To register, go to www.DietaryGuidelines.gov and click on the link for “Meeting Registration.” To present up to three minutes of oral comment at the second and fourth meetings, register online following the instructions to register for oral comments in the meeting registration link. Additional information on providing oral comments is provided below. To view the live webcast of any of the meetings, registration will remain open throughout each meeting. To register by phone or to request a sign language interpreter or other special accommodations, please call for registration and logistics assistance through USDA's Center for Nutrition Policy and Promotion, Susan Cole at (703) 305-7600 by 5:00 p.m. on July 1, 2019. All registrants will be asked to provide their name, affiliation, phone number or email address, days attending, and whether they will be participating via webcast or in person.

Webcast Public Participation: After registration, individuals participating by webcast will receive webcast access information through www.DietaryGuidelines.gov.

In-Person Public Participation and Building Access: For in-person participants, the second, third, and fifth meetings will be held in Washington, DC, and the fourth meeting will be held in Houston, TX, as noted in the Addresses section. Details regarding registration capacity and directions will be provided by email and posted on www.DietaryGuidelines.gov. For in-person (registered) participants, after going through USDA security at the building entrance, check-in at the meeting's on-site registration desk is required; check-in will begin at 8:00 a.m. each day in each location.

Oral Comments: The Committee invites the public to present up to three minutes of oral comment on July 11, 2019 and January 24, 2020. Due to time limitations, pre-registration is required. Registration for oral comments on July 11, 2019 is required by 5 p.m. on July 1, 2019. Registration for oral comments on January 24, 2020 will open at least three weeks prior to the meeting date and will close on January 14, 2020. Pre-registration to present oral comments will be confirmed on a first-come, first-served basis, and the number of presenters will be limited based on the time allotted on the meeting agenda. Oral comments are limited to one representative per organization. Requests to present oral comment can be made by going to www.DietaryGuidelines.gov and clicking on the link for “Meeting Registration” and must include a written outline of the intended oral comment, not exceeding one page in length. Confirmation by email will include further instructions for participation.

Written Comments and Meeting Documents: The period for written public comments to the Committee, which opened on March 12, 2019, will remain open throughout the Committee's deliberations and is not restricted to meeting dates and times.

• Electronic submissions: Preferred method. Follow the instructions for submitting comments at www.regulations.gov. Comments submitted electronically, including attachments, will be posted to Docket FNS-2019-0001.

• Written/paper submissions: Mail/courier to Kristin Koegel, USDA Food and Nutrition Service, Center for Nutrition Policy and Promotion; 3101 Park Center Drive, Room 1034; Alexandria, VA 22302. For written/paper submissions, CNPP will post the comment, as well as any attachments, to www.regulations.gov.

Meeting materials will be available for public viewing at each meeting location and after each meeting at www.DietaryGuidelines.gov and at the USDA Food and Nutrition Service, Center for Nutrition Policy and Promotion; 3101 Park Center Drive, Room 1034; Alexandria, VA 22302. Materials may be requested by: Telephone (703) 305-7600, Fax (703) 305-3300, dietaryguidelines@usda.gov.

Dated: June 11, 2019.
Brandon Lipps,
Acting Deputy Under Secretary, Food, Nutrition, and Consumer Services, U.S. Department of Agriculture.

[FR Doc. 2019-12806 Filed 6-17-19; 8:45 am]

BILLING CODE 3410-30-P